DEPARTMENT OF ENERGY

Federal Energy Regulatory Commission

[Project No. 1494-433]

Grand River Dam Authority; Notice of Request To Reduce Comment Period From 60 to 30 Days on Draft Amendment Application and Soliciting Comments, Motions To Intervene, and Protests

Take notice that the following hydroelectric application has been filed with the Commission and is available for public inspection:

a. Application Type: Request to reduce the comment period from 60 to 30 days for a draft amendment application to permanently modify the reservoir elevation rule curve under Article 401 of the project license.

b. Project No: 1494-433.

c. Date Filed: March 15, 2016.

d. Applicant: Grand River Dam Authority (GRDA).

e. Name of Project: Pensacola Hydroelectric Project.

f. Location: The project is located on the Grand River in Craig, Delaware, Mayes, and Ottawa Counties, Oklahoma.

g. Filed Pursuant to: Federal Power Act, 16 U.S.C. 791(a)-825(r).

h. Applicant Contact: Tamara Jahnke, Grand River Dam Authority, 226 West Dwain Willis Ave, P.O. Box 409, Vinita, OK 74301; telephone (918) 256-5545.

i. FERC Contact: B. Peter Yarrington, telephone (202) 502-6129 and email peter.yarrington@ferc.gov; or Linda Stewart, telephone (202) 502-6680 and email linda.stewart@ferc.

j. Deadline for filing comments, motions to intervene, and protests is 15 days from the issuance date of this notice by the Commission. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the project number (P-1494-433).

k. Description of Request: On March 15, 2016, GRDA filed with the Commission: (1) A draft amendment application to permanently modify the reservoir elevation rule curve under Article 401 of the Pensacola Project for Grand Lake O' the Cherokees, (2) a request for a temporary variance contained in the draft amendment application, and (3) a waiver request to reduce from 60 to 30 days the comment period for resource agencies, Indian tribes, and other stakeholders to provide comments on the draft amendment application mentioned above. The Commission's regulations at 4.38(a)(7) require GRDA to provide resource agencies, Indian tribes, and other stakeholders 60 days to provide comments on the above draft amendment application. GRDA requests Commission approval of a 30-day comment period instead to expedite the Commission's review of any final application filed with the Commission.

This notice solicits comments, motions to intervene, and protests on GRDA's request to reduce the comment period from 60 to 30 days as discussed above. Comments on the draft application and temporary variance request contained in the draft application should be filed directly with GRDA in accordance with instructions in the draft application.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS,” “PROTEST,” or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the proposed amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: March 16, 2016.
Nathaniel J. Davis, Sr.,
Deputy Secretary.

[FR Doc. 2016-06370 Filed 3-21-16; 8:45 am]

BILLING CODE 6717-01-P